SMALL BUSINESS ADMINISTRATION

[Disaster Declaration # 10023]

Utah Disaster # UT-00002 Disaster Declaration

AGENCY: U.S. Small Business Administration.

ACTION: Notice.

SUMMARY: This is a Notice of the Presidential Public Assistance declaration of a major disaster for the State of Utah (FEMA—1576—DR ), dated February 1, 2005.

Incident: Severe storms and flooding.

Incident Period: January 8, 2005, through January 12, 2005.

DATES: Effective Date: February 1, 2005.

Physical Loan Application Deadline Date: April 4, 2005.

ADDRESSES: Submit completed loan applications to: U.S. Small Business Administration, Disaster Area Office 1, 360 Rainbow Blvd., South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on February 1, 2005, applications for disaster loans may be filed at the address listed above or other locally announced locations.

The following areas have been determined to be adversely affected by the disaster:

Primary Counties: Kane, Washington.

The Interest Rates are:

| Percent
Other (Including Non-Profit Organizations) with Credit Available Elsewhere | 4.750
Businesses and Non-Profit Organizations without Credit Available Elsewhere | 4.000

The number assigned to this disaster for physical damage is 100236.

(Catalog of Federal Domestic Assistance Numbers 59008)

Herbert L. Mitchell,
Associate Administrator for Disaster Assistance.

[FR Doc. 05-3103 Filed 2-17-05; 8:45 am]

BILLING CODE 8025-01-P